DEPARTMENT OF JUSTICE

Notice of Lodging of Proposed Consent Decree Under the Clean Air Act

On June 12, 2014, the Department of Justice lodged a proposed Consent Decree with the United States District Court for the District of South Carolina in the lawsuit entitled United States et al. v. Albemarle Corporation, Civil Action No. 5:11-cv-00991-JMC.

In Albemarle, the United States of America (“United States”), on behalf of the Administrator of the United States Environmental Protection Agency (“EPA”), and the South Carolina Department of Health and Environmental Control (“SCDHEC”) filed a complaint pursuant to the Clean Air Act, 42 U.S.C. 7401 et seq. and the South Carolina Pollution Control Act, S.C. Code Section 48-1-10 et seq., alleging violations of these statutes at an Albemarle Corporation (“Albemarle”) facility in Orangeburg, South Carolina. Under the proposed consent decree, Albemarle agrees to demonstrate its compliance with these statutes and pay a civil penalty to the plaintiffs, of which $331,995.50 shall be paid to the United States.

The publication of this notice opens a period for public comment on the Consent Decree. Comments should be addressed to the Assistant Attorney General, Environment and Natural Resources Division, and should refer to United States et al. v. Albemarle Corporation, D.J. Ref. No. 90-5-2-1-2152/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $ 6.00 (25 cents per page reproduction cost) payable to the United States Treasury.

Henry S. Friedman,
Assistant Section Chief, Environmental Enforcement Section, Environment and Natural Resources Division.

[FR Doc. 2014-14284 Filed 6-18-14; 8:45 am]

BILLING CODE 4410-15-P